DEPARTMENT OF AGRICULTURE

Economic Research Service

Notice of Intent To Seek Approval To Collect Information

AGENCY: Economic Research Service, USDA.

SUMMARY: In accordance with the Paperwork Reduction Act of 1995 (Pub. L. 104-13) and Office of Management and Budget (OMB) regulations at 5 CFR Part 1320 (60 FR 44987, August, 29, 1995), this notice announces the Economic Research Service's (ERS) intention to request approval for a new information collection from people that receive food assistance from emergency kitchens and food pantries.

DATES: Comments on this notice must be received by November 13, 2000 to be assured of consideration.

ADDITIONAL INFORMATION OR COMMENTS: Contact Linda Kantor, Food and Rural Economics Division, Economic Research Service, U.S. Department of Agriculture, 1800 M Street, NW, Room N-3069, Washington, DC 20036-5831, 202-694-5456.

SUPPLEMENTARY INFORMATION: Title: Application for ERS collection of information from people who receive food assistance from emergency kitchens and food pantries.

Type of Request: Approval to collect information from people who receive food assistance from emergency kitchens and food pantries.

Abstract: USDA's Economic Research Service (ERS) has the responsibility to provide social and economic intelligence on consumer, food marketing, and rural issues, including food security status of the poor; domestic food assistance programs; low-income assistance programs; economic food consumption determinations and trends; consumer demand for food quality, safety, and nutrition; food market competition and coordination; and food safety regulation. In carrying out this overall mission, ERS seeks approval of information gathering activities that will provide key information about the use of the Emergency Food Assistance System (EFAS) by low-income households and individuals.

USDA, through the Food and Nutrition Service, administers several food assistance programs that help low-income households obtain adequate and nutritious diets. The largest USDA food assistance program, the Food Stamp Program, is designed to provide food assistance through normal channels of trade by providing low-income consumers with purchasing power to buy food at market prices from food retailers authorized to participate in the program. Other programs such as the National School Lunch Program (NSLP), the School Breakfast Program (SBP), and the Temporary Emergency Feeding Assistance Program (TEFAP) provide food assistance outside regular marketing channels. The NSLP and SBP provide cash subsidies and commodity assistance to schools to help provide low-cost or free lunches and breakfasts to schoolchildren. The TEFAP distributes commodity foods to State and local agencies for distribution to low-income households for home consumption, or to charitable organizations that provide meals for needy people.

The EFAS interacts closely with USDA food assistance programs by serving as a distribution outlet for TEFAP commodities and by providing temporary or supplemental food assistance to many of the same needy populations served by USDA programs. Through its Community Food Security Initiative, USDA is coordinating public and private efforts to increase the amount of surplus food channeled through EFAS providers.

EFAS providers are primarily private, nonprofit organizations that distribute groceries (unprepared foods) and meals (prepared foods) on a short-term or emergency basis to needy individuals and households who lack the resources to meet their own food needs. EFAS recipients include the homeless, the elderly, the unemployed, the working poor, and victims of natural disasters. Food pantries and emergency kitchens are important components of the EFAS. Food pantries are distribution centers that provide groceries and other basic supplies for use by recipients in their homes or at other locations away from the distribution sites. Emergency kitchens supply food for on-site consumption to people who do not live at the site. Both emergency kitchens and food pantries focus on providing assistance to needy households and individuals in their neighborhoods.

In order to fully assess the role of the emergency food assistance system and its interaction with USDA food assistance programs in meeting clients' nutrition needs, ERS is conducting an Emergency Food Assistance Study of providers and clients. The Provider Survey will provide important information on providers' characteristics, operations, service areas, and demand for assistance. The new data collection activity, the Client Survey, will complement the Provider Survey by collecting information from a national sample of people that visit emergency kitchens and/or food pantries sampled in the Provider Survey. The results from the entire study will be used to inform public policy about the emergency food assistance system and its interaction with USDA food assistance programs. For example, does the Emergency Food Assistance System substitute for or serve as a complement to existing USDA food assistance programs, like the Food Stamp Program. The study findings from EFAS providers and clients will be used by USDA to assess current food assistance programs and to plan future programs. The Client Survey has five primary objectives: (1) To characterize EFAS clients; (2) to determine the precipitating events that led clients to seek emergency food assistance; (3) to determine EFAS clients' participation in, knowledge of and experience and satisfaction with USDA food assistance and other Federal benefits programs; (4) to assess the food security status of EFAS clients; and (5) to determine the content and size of food baskets and meals received by EFAS clients.

Previous research on EFAS clients has been conducted, but has been limited by several factors: (1) Reduced scope or focus on one program¹ or population group, such as the homeless², (2) lack of national representativeness, and (3) lack of comparability in populations or survey methodologies across studies.³ Previous studies of TEFAP and the Prepared Meals Provision were conducted by USDA in the 1980s. There is a need to update this information with more complete and current information about the entire emergency food assistance program, and to better understand potential changes in emergency feeding since the 1996 Personal Work Responsibility and Reconciliation Act.

¹ USDA. A Study of the Temporary Emergency Food Assistance Program (TEFAP). Washington, DC: Food and Nutrition Service, April 1987.

² Martha Burt and Barbara Cohen. Feeding the Homeless: Does the Prepared Meals Provision Help? Vol. 1. U.S. House of Representatives, Committee on Agriculture, October 31, 1988.

³ Second Harvest. Hunger 1997: The Faces & Facts. Chicago: The Amburg Group, 1997.

To fill these information gaps, ERS, working with Mathematica Policy Research, Inc., will survey clients of emergency kitchens and food pantries. The Provider Survey includes a national sample of EFAS providers. The Client Survey will survey individuals and families who are EFAS clients. The overall sampling process for the EFAS study uses a multi-stage design. In the Provider Survey, a random sample of 360 sampling areas were drawn from the 48 continental United States and the District of Columbia. The sample design for the Client Survey builds upon the design and sample frame developed and used for the Provider Survey. For the Client Survey, a representative sample of 60 Primary Sampling Units (PSUs) will be drawn from the 360 sampling areas to select emergency kitchens and food pantries. Contacts with providers will be made to inform them that their site has been selected for surveying clients, to verify current operations, and to enlist their cooperation. Clients that visit selected kitchens and pantries will be selected based on an interval sampling plan implemented at the EFAS site. To collect the Client Survey data, interviews will be conducted with a representative sample of clients using cell phones and computer-assisted telephone interviews (CATI).

Respondent burden will be minimized by using CATI methods to streamline the interviewing process and by carefully training and monitoring interview staff on survey procedures. Careful attention to instrument development to include only topics that are important to the agency's objectives will also minimize respondent burden. Responses will be confidential and voluntary. Data will only be reported in tabular form and analysis cells large enough to prevent identification of individuals. In addition, identifying information will be kept only by the contractor and will be released only to the contractor's internal staff who need it directly for the survey operations and data analysis.

Estimate of Burden: To notify EFAS providers and make arrangements for on-site data collection, an average of 30 minutes of telephone contact with providers will be required. CATI interviews with clients at emergency kitchens and food pantries will average 20 minutes.

Respondents: Respondents are directors of emergency kitchens and food pantries, and individuals who visit those EFAS providers to receive food assistance. To make arrangements for on-site data collection, directors at 600 providers will be contacted. Data will be collected from 2,135 clients at emergency kitchens and 2,135 clients at food pantries, for a total of 4,270 completed interviews.

Estimated Total Annual Burden on Respondents: The estimated burden on the EFAS providers to be informed about the survey and make arrangements for on-site data collection is 300 hours for telephone contacts. The estimated burden of the CATI interviews with clients is 1,409 hours. Thus, total burden is 1,709 hours for all providers and clients.

Comments: Comments are invited on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technology. Comments may be sent to: Linda Kantor, Food and Rural Economics Division, Economic Research Service, U.S. Department of Agriculture, 1800 M Street, NW, Room N-3069, Washington, DC 20036-5831.

All responses to this notice will be summarized and included in the request for Office of Management and Budget (OMB) approval. All comments will also become a matter of public record.

Dated: August 2, 2000.
Betsey Kuhn,
Director, Food and Rural Economics Division.

[FR Doc. 00-22866 Filed 9-6-00; 8:45 am]

BILLING CODE 3410-18-P